OFFICE OF THE UNITED STATES TRADE REPRESENTATIVE

Fiscal Year 2012 Allocation of Additional Tariff-Rate Quota Volume for Raw Cane Sugar and Reallocation of Unused Fiscal Year 2012 Tariff-Rate Quota Volume for Raw Cane Sugar

AGENCY: Office of the United States Trade Representative.

ACTION: Notice.

SUMMARY: The Office of the United States Trade Representative (USTR) is providing notice of country-by-country allocations of additional Fiscal Year (FY) 2012 in-quota quantity of the tariff-rate quota (TRQ) for imported raw cane sugar and of country-by-country reallocations of the FY 2012 in-quota quantity of the tariff-rate quota for imported raw cane sugar.

DATES: Effective Date: April 26, 2012.

ADDRESSES: Inquiries may be mailed or delivered to Ann Heilman-Dahl, Director of Agricultural Affairs, Office of Agricultural Affairs, Office of the United States Trade Representative, 600 17th Street, NW., Washington, DC 20508.

FOR FURTHER INFORMATION CONTACT: Ann Heilman-Dahl, Office of the United States Trade Representative, Office of Agricultural Affairs, 202-395-6127.

SUPPLEMENTARY INFORMATION: Pursuant to Additional U.S. Note 5 to Chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On April 19, 2012, the Secretary of Agriculture announced an additional in-quota quantity of the TRQ for raw cane sugar for the remainder of FY 2012 (ending September 30, 2012) in the amount of 381,018 metric tons, raw value (MTRV). This quantity is in addition to the minimum amount to which the United States has already committed to pursuant to the World Trade Organization (WTO) Uruguay Round Agreements (1,117,195 MTRV, as announced by Federal Register notice on August 12, 2011). Finally, USTR has determined to reallocate 73,446 MTRV of the minimum amount of the original TRQ for raw cane sugar from countries that have stated they will be unable to fill previously allocated FY 2012 raw sugar TRQ quantities. USTR is allocating this total quantity of 454,463 MTRV to the following countries in the amounts specified below:

Country | Combined FY 2012 re-allocation and increase
Argentina | 24,061
Australia | 46,443
Barbados | 3,917
Belize | 6,155
Bolivia | 4,476
Brazil | 81,136
Colombia | 13,430
Costa Rica | 8,393
Dominican Republic | 30,000
Ecuador | 6,155
El Salvador | 14,548
Guatemala | 26,858
Guyana | 6,714
Honduras | 5,596
India | 4,476
Mauritius | 2,000
Mozambique | 7,275
Nicaragua | 11,751
Panama | 16,227
Peru | 22,942
Philippines | 75,540
South Africa | 12,869
Swaziland | 8,953
Thailand | 7,834
Zimbabwe | 6,714

These allocations are based on the countries' historical shipments to the United States. The allocations of the raw cane sugar TRQ to countries that are net importers of sugar are conditioned on receipt of the appropriate verifications of origin, and certificates for quota eligibility must accompany imports from any country for which an allocation has been provided.

Conversion factor: 1 metric ton = 1.10231125 short tons.

Ronald Kirk,
United States Trade Representative.

[FR Doc. 2012-10019 Filed 4-25-12; 8:45 am]

BILLING CODE 3190-W2-P